ENVIRONMENTAL PROTECTION AGENCY

[FRL 9903-96-OARM; EPA-HQ-OA-2013-0122]

National Advisory Council for Environmental Policy and Technology

AGENCY: Environmental Protection Agency (EPA).

ACTION: Notice of Advisory Committee Video/Teleconference.

SUMMARY: Under the Federal Advisory Committee Act, Public Law 92463, EPA gives notice of a public teleconference of the National Advisory Council for Environmental Policy and Technology (NACEPT). NACEPT provides advice to the EPA Administrator on a broad range of environmental policy, technology, and management issues. NACEPT members represent academia, industry, non-governmental organizations, and local, state, and tribal governments. Purpose of Video/Teleconference: NACEPT will discuss draft recommendations regarding EPA's FY2014-2018 Draft Strategic Plan. The agenda and meeting materials will be available at http://www.epa.gov/ofacmo/nacept/cal-nacept.htm and http://www.regulations.gov under Docket ID: EPA-HQ-OA-2013-0122.

DATES: NACEPT will hold a public video/teleconference on Thursday, December 19, 2013, from 12:00 p.m. to 4:00 p.m. Eastern Standard Time. EPA is announcing this teleconference with less than 15 calendar days public notice due to the limited amount of time available to review and comment on the FY 2014-2018 Draft Strategic Plan.

ADDRESSES: The meeting will be held at U.S. EPA, William Jefferson Clinton East Building, 1201 Constitution Ave. NW., Room 1132, Washington, DC 20004.

FOR FURTHER INFORMATION CONTACT: Mark Joyce, Acting Designated Federal Officer, joyce.mark@epa.gov, (202) 564-2130, U.S. EPA, Office of Diversity, Advisory Committee Management and Outreach (1601M), 1200 Pennsylvania Avenue NW., Washington, DC 20460.

SUPPLEMENTARY INFORMATION: Requests to make oral comments or to provide written comments to NACEPT should be sent to Eugene Green at green.eugene@epa.gov by Friday, December 13, 2013. The meeting is open to the public, with limited seating on a first-come, first-served basis. Members of the public wishing to participate in the video/teleconference should contact Eugene Green at green.eugene@epa.gov or (202) 564-2432 by December 13, 2013.

Meeting Access: Concerns regarding accessibility and/or accommodations for individuals with disabilities should be directed to Eugene Green at green.eugene@epa.gov or (202) 564-2432. To ensure adequate time for processing, please make requests for accommodations at least 7 days prior to the meeting.

Dated: November 27, 2013.
Mark Joyce,
Acting Designated Federal Officer.

[FR Doc. 2013-29446 Filed 12-9-13; 8:45 am]

BILLING CODE 6560-50-P